DEPARTMENT OF COMMERCE

International Trade Administration

[A-583-833]

Certain Polyester Staple Fiber from Taiwan: Notice of Extension of Time Limit for the Final Results of the Antidumping Duty Administrative Review

AGENCY: Import Administration, International Trade Administration, Department of Commerce.

EFFECTIVE DATE: August 15, 2007.

FOR FURTHER INFORMATION CONTACT: Devta Ohri, AD/CVD Operations, Office 1, Import Administration, International Trade Administration, U.S. Department of Commerce, 14th Street and Constitution Avenue, NW, Washington, DC 20230; telephone: (202) 482-3853.

SUPPLEMENTARY INFORMATION:

Background

On May 25, 2000, the Department of Commerce (“Department”) published an antidumping duty order on certain polyester staple fiber (“PSF”) from Taiwan. See Notice of Amended Final Determination of Sales at Less Than Fair Value: Certain Polyester Staple Fiber From the Republic of Korea and Antidumping Duty Orders: Certain Polyester Staple Fiber From the Republic of Korea and Taiwan, 65 FR 33807 (May 25, 2000). On May 1, 2006, the Department published a notice of “Opportunity to Request Administrative Review” of this order. See Antidumping or Countervailing Duty Order, Finding, or Suspended Investigation; Opportunity to Request Administrative Review, 71 FR 25565 (May 1, 2006). On May 31, 2006, Far Eastern Textile Limited (“FET”) requested an administrative review. On July 3, 2006, the Department published a notice initiating an administrative review for PSF from Taiwan. See Initiation of Antidumping and Countervailing Duty Administrative Reviews, 71 FR 37892 (July 3, 2006). The period of review (“POR”) is May 1, 2005, through April 30, 2006.

On June 6, 2007, the Department published the preliminary results of the 2005-2006 administrative review of the antidumping duty order on certain PSF from Taiwan. See Certain Polyester Staple Fiber from Taiwan: Preliminary Results of Antidumping Duty Administrative Review, 72 FR 31283 (June 6, 2007). This review covers one manufacturer/exporter of the subject merchandise to the United States, FET. In the preliminary results we stated that we would issue our final results for the antidumping duty administrative review no later than 120 days after the date of publication of the preliminary results (i.e., October 4, 2007).

Extension of Time Limit for Final Results

Section 751(a)(3)(A) of the Act requires the Department to issue the final results in an administrative review within 120 days of the publication date of the preliminary results. However, if it is not practicable to complete the review within this time period, section 751(a)(3)(A) of the Act allows the Department to extend the time limit for the final results to a maximum of 180 days.

The Department has determined that completion of the final results of this review within the original time period is not practicable due to the complex legal and factual issues that have arisen since the issuance of our preliminary results of review. Specifically, the Department requires additional time to review pending allegations made by the domestic interested parties and the rebuttals filed by the respondent. Thus, in accordance with section 751(a)(3)(A) of the Act, the Department is extending the time period for issuing the final results of review by an additional 60 days, until December 3, 2007.

This notice is published pursuant to sections 751(a)(2)(B)(iv) and 777(i)(1) of the Act.

Dated: August 7, 2007.
Gary Taverman,
Acting Deputy Assistant Secretary for Import Administration.

[FR Doc. E7-16015 Filed 8-14-07; 8:45 am]

BILLING CODE 3510-DS-S